DEPARTMENT OF TRANSPORTATION

Federal Motor Carrier Safety Administration

49 CFR Part 393

[Docket No. FMCSA-2022-0004]

Parts and Accessories Necessary for Safe Operations; Speed Limiting Devices

AGENCY: Federal Motor Carrier Safety Administration (FMCSA), Department of Transportation (DOT).

ACTION: Advance notice of supplemental proposed rulemaking; extension of comment period.

SUMMARY: The Federal Motor Carrier Safety Administration (FMCSA) extends the comment period for its May 4, 2022, advance notice of supplemental proposed rulemaking concerning its intent to proceed with a speed limiter rulemaking. FMCSA received requests for an extension to the comment period from the American Trucking Associations (ATA) and the Owner-Operator Independent Drivers Association (OOIDA). Extension of the comment period will provide interested parties additional time to submit their responses. Therefore, the Agency extends the deadline for the submission of comments.

DATES: The comment period for the advance notice of supplemental proposed rulemaking is extended from June 3, 2022 to July 18, 2022. Comments must be received on or before July 18, 2022.

ADDRESSES: You may submit comments identified by Docket Number FMCSA-2022-0004 using any of the following methods:

• Federal eRulemaking Portal: Go to https://www.regulations.gov/document/FMCSA-2022-0004-0001. Follow the online instructions for submitting comments.

• Mail: Dockets Operations, U.S. Department of Transportation, 1200 New Jersey Avenue SE, West Building, Ground Floor, Room W12-140, Washington, DC 20590-0001.

• Hand Delivery or Courier: Dockets Operations, U.S. Department of Transportation, 1200 New Jersey Avenue SE, West Building, Ground Floor, Room W12-140, Washington, DC 20590-0001, between 9 a.m. and 5 p.m., Monday through Friday, except Federal holidays. To be sure someone is there to help you, please call (202) 366-9317 or (202) 366-9826 before visiting Dockets Operations.

• Fax: (202) 493-2251.

To avoid duplication, please use only one of these four methods. See the “Public Participation and Request for Comments” portion of the SUPPLEMENTARY INFORMATION section for instructions on submitting comments, including information collection comments for the Office of Information and Regulatory Affairs, OMB.

FOR FURTHER INFORMATION CONTACT: Mr. Luke Loy, Office of Vehicle and Roadside Operations, FMCSA, 1200 New Jersey Avenue SE, Washington, DC 20590-0001; (202) 366-0676; MCPSV@dot.gov. If you have questions on viewing or submitting material to the docket, call Dockets Operations at (202) 366-9826.

SUPPLEMENTARY INFORMATION:

I. Public Participation and Request for Comments

A. Submitting Comments

If you submit a comment, please include the docket number for the advance notice of supplemental proposed rulemaking (FMCSA-2022-0004), indicate the specific section of the document to which your comment applies, and provide a reason for each suggestion or recommendation. You may submit your comments and material online or by fax, mail, or hand delivery, but please use only one of these means. FMCSA recommends that you include your name and a mailing address, an email address, or a phone number in the body of your document so FMCSA recommends that you include your name and a mailing address, an email address, or a phone number in the body of your document so FMCSA can contact you if there are questions regarding your submission.

To submit your comment online, go to https://www.regulations.gov/document/FMCSA-2022-0004-0001, click “Comment,” and type your comment into the text box on the following screen.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

Confidential Business Information (CBI)

CBI is commercial or financial information that is both customarily and actually treated as private by its owner. Under the Freedom of Information Act (5 U.S.C. 552), CBI is exempt from public disclosure. If your comments responsive to the advance notice of supplemental proposed rulemaking contain commercial or financial information that is customarily treated as private, that you actually treat as private, and that is relevant or responsive to the advance notice of supplemental proposed rulemaking, it is important that you clearly designate the submitted comments as CBI. Please mark each page of your submission that constitutes CBI as “PROPIN” to indicate it contains proprietary information. FMCSA will treat such marked submissions as confidential under the Freedom of Information Act, and they will not be placed in the public docket. Submissions containing CBI should be sent to Mr. Brian Dahlin, Chief, Regulatory Evaluation Division, Office of Policy, FMCSA, 1200 New Jersey Avenue SE, Washington DC 20590-0001. Any comments FMCSA receives not specifically designated as CBI will be placed in the public docket for this rulemaking.

B. Viewing Comments and Documents

To view any documents mentioned as being available in the docket, go to https://www.regulations.gov/docket/FMCSA-2022-0004/document and choose the document to review. To view comments, click the advance notice of supplemental proposed rulemaking, then click “Browse Comments.” If you do not have access to the internet, you may view the docket online by visiting Dockets Operations in Room W12-140 on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

C. Privacy

DOT solicits comments from the public to better inform its regulatory process, in accordance with 5 U.S.C. 553(c). DOT posts these comments, without edit, including any personal information the commenter provides, to www.regulations.gov, as described in the system of records notice (DOT/ALL 14—Federal Docket Management System), which can be reviewed at https://www.govinfo.gov/content/pkg/FR-2008-01-17/pdf/E8-785.pdf.

II. Background

On May 4, 2022, FMCSA published an advance notice of supplemental proposed rulemaking (87 FR 26317) requesting public comment on questions related to the programming, adjustment, and maintenance of settings to engine control units as well as feedback on the applicability of the speed limiting devices rulemaking under consideration. The comment period for the advance notice of supplemental proposed rulemaking was set to expire on June 3, 2022.

FMCSA received requests to extend the comment period from the ATA and OOIDA. Copies of the requests are included in the docket.

The ATA requested a 30-day extension and OOIDA requested a 60-day extension. The requesters explained that due to the potential impacts and complexity of the issues associated with the speed limiters rulemaking, additional time was necessary to ensure that the most accurate data could be obtained and submitted by the associations' members.

FMCSA has determined that extending the comment period would provide the organizations, and other interested parties, additional time to prepare more detailed comments that are reflective of the concerns of their members. Accordingly, FMCSA extends the public comment period for the advance notice of supplemental proposed rulemaking to July 18, 2022.

Robin Hutcheson,
Deputy Administrator.

[FR Doc. 2022-11490 Filed 5-26-22; 8:45 am]

BILLING CODE 4910-EX-P